Proclamation 10269 of September 30, 2021

National Clean Energy Action Month, 2021

By the President of the United States of America

A Proclamation

In the months leading up to this year's National Clean Energy Action Month, nearly 1 in 3 Americans has seen their community struck by weather disasters. The climate crisis is here and is threatening the safety and health of Americans across our Nation and people around the world. As the country continues to face droughts, heat waves, wildfires, floods, and hurricanes, we recognize that the window to avoid catastrophic outcomes is rapidly closing. The science is undeniable, and the cost of inaction is rising. At the same time, winter storms and hurricanes have tragically reminded us of the suffering and loss of life that can occur when access to energy is cut off or disrupted. During National Clean Energy Action Month, we recognize the importance of a clean energy future and the vital role we all have to play in working to avert the climate crisis.

Today, the energy sector accounts for more than 80 percent of United States emissions. My Administration has set ambitious and attainable goals of reducing United States greenhouse gas emissions by achieving a 100 percent clean electricity sector by 2035 and reaching net zero emissions economy-wide by no later than 2050. The path forward is clear: we must move quickly and decisively to power America with clean energy. This will require investment and innovation and will result not only in cleaner energy but also new jobs and lower bills.

That is why my Administration has been working aggressively to scale the deployment of large-scale and rooftop solar, offshore and onshore wind, and other clean energy technologies. We are committed to investing in American innovation to drive down costs and reduce our overall demand for energy. We are committed to upgrading, modernizing, and expanding our power grid to include clean power and to ensuring our grid is more resilient in the face of everything from extreme weather to cyber attacks. We are also investing in emerging technologies and bolstering our domestic supply chain for batteries and other clean technologies so that our clean energy future is made in America. At the same time, we are investing in the communities that are home to coal and fossil-fuel power plants to create new good-paying job opportunities for the workers who have powered our country and economy for over a century.

While the Federal Government can leverage powerful tools to help our Nation reach our climate goals, we cannot do it alone. Every American has a role to play in making smarter, more conscientious choices about how we use power within our homes, offices, schools, and places of worship. Simple actions like turning off the lights when we leave a room or upgrading our energy monitoring systems using tools like smart thermostats can help conserve energy and save money on energy bills. These small, intentional acts can add up to significant savings.

During National Clean Energy Action Month, we also recognize that for too long, low-income communities and communities of color have borne a disproportionate burden of pollution from fossil fuels and other industries. That is why I signed an Executive Order establishing a White House Environmental Justice Advisory Council to prioritize environmental justice and ensure a whole-of-government approach to addressing current and historical environmental injustices. Our goal is to ensure that historically underserved communities also benefit from clean energy.

Throughout National Clean Energy Action Month, we recommit to acting on the climate crisis with urgency and moving quickly toward 100 percent clean energy, so we can create a safer, healthier, more prosperous future for all Americans.

NOW, THEREFORE, I, JOSEPH R. BIDEN JR., President of the United States of America, by virtue of the authority vested in me by the Constitution and the laws of the United States, do hereby proclaim October 2021 as National Clean Energy Action Month. I call upon the citizens of the United States to recognize this month by working together to mitigate climate change and achieve a healthier environment for all.

IN WITNESS WHEREOF, I have hereunto set my hand this thirtieth day of September, in the year of our Lord two thousand twenty-one, and of the Independence of the United States of America the two hundred and forty-sixth.

[FR Doc. 2021-21886

Filed 10-4-21; 11:15 am]

Billing code 3395-F2-P